DEPARTMENT OF JUSTICE

[OMB Number 1140-0014]

Agency Information Collection Activities; Proposed eCollection eComments Requested; Application for Tax Paid Transfer and Registration of Firearm (ATF Form 4 (5320.4)

AGENCY: Bureau of Alcohol, Tobacco, Firearms and Explosives, Department of Justice.

ACTION: 30-Day notice.

SUMMARY: The Department of Justice (DOJ), Bureau of Alcohol, Tobacco, Firearms and Explosives (ATF), will submit the following information collection request to the Office of Management and Budget (OMB) for review and approval in accordance with the Paperwork Reduction Act of 1995. The proposed information collection was previously published in the Federal Register 81 FR 8100, on February 17, 2016, allowing for a 60-day comment period.

DATES: Comments are encouraged and will be accepted for an additional 30 days until May 31, 2016.

FOR FURTHER INFORMATION CONTACT: If you have additional comments especially on the estimated public burden or associated response time, suggestions, or need a copy of the proposed information collection instrument with instructions or additional information, please Gary Schaible, Industry Liaison Analyst, Bureau of Alcohol, Tobacco, Firearms and Explosives (ATF), 99 New York Ave. NE., Washington, DC 20226 at email: nfaombcomments@atf.gov. Written comments and/or suggestions can also be directed to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: Application for Tax Paid Transfer and Registration of Firearm.

3. The agency form number, if any, and the applicable component of the Department sponsoring the collection:

Form number: ATF Form 4 (5320.4).

Component: Bureau of Alcohol, Tobacco, Firearms and Explosives, U.S. Department of Justice.

4. Affected public who will be asked or required to respond, as well as a brief abstract:

Primary: Business or other for-profit.

Other: Individuals or households; and Not-for-profit institutions.

Abstract: This form is filed to obtain permission to transfer and register a National Firearms Act (NFA) firearm. A transfer without approval and possession of an unregistered NFA firearm are illegal. The approval of the application effectuates the registration of a firearm to the transferee. There is a tax of $5 or $200 on the transfer of an NFA firearm with certain exceptions (see ATF Forms 3 and 5 for tax exempt transfer information).

5. An estimate of the total number of respondents and the amount of time estimated for an average respondent to respond: An estimated 123,339 respondents will take 3.66 hours to respond.

6. An estimate of the total public burden (in hours) associated with the collection: The estimated annual public burden associated with this collection is 466,755 hours.

If additional information is required contact: Jerri Murray, Department Clearance Officer, United States Department of Justice, Justice Management Division, Policy and Planning Staff, Two Constitution Square, 145 N Street NE., Room 3E-405B, Washington, DC 20530.

Dated: April 22, 2016.
Jerri Murray,
Department Clearance Officer for PRA, U.S. Department of Justice.

[FR Doc. 2016-09875 Filed 4-27-16; 8:45 am]

BILLING CODE 4410-FY-P